DEPARTMENT OF HEALTH AND HUMAN SERVICES

Administration for Children and Families

Submission for OMB Review; Comment Request

Title: Generic Clearance for Grant Reviewer Recruitment Form.

OMB No.: New.

Description: This notice announces that the Administration for Children and Families intends to submit the proposed Information Collection Request (Generic ICR): Generic Clearance for Grant Reviewer Application Form under the Paperwork Reduction (PRA) (44 U.S.C. 3501 et. seq.). Comments on specific aspects for the proposed information collection are being solicited.

This request is for approval of a plan for conducting more than one information collection that is very similar, voluntary, low-burden and uncontroversial. Information collections under this generic clearance will be in compliance with U.S. Department of Health and Humans Services' Grants Policy Directive 2.04 “Awarding Grants”, and the Awarding Agency Grants Administration Manual, Chapter 2.04C “Objective Review of Grant Applications. These forms will be used to select reviewers who will participate in the grant review process for the purpose of selecting successful applications.

Respondents: Grant Reviewer Candidates.

Annual Burden Estimates
Instrument | Number of respondents | Number of responses per respondent | Average burden hours per response | Total burden hours
Recruitment Form | 1,500 | 1 | 0.5 | 750

Estimated Total Annual Burden Hours: 750 Hours.

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2015-07352 Filed 3-31-15; 8:45 am]

BILLING CODE 4184-01-P